DEPARTMENT OF ENERGY

10 CFR Part 430

[Docket No. EERE-2011-BT-STD-0047]

RIN 1904-AC56

Energy Conservation Program for Consumer Products and Certain Commercial and Industrial Equipment: Energy Conservation Standards for Direct Heating Equipment

AGENCY: Office of Energy Efficiency and Renewable Energy, Department of Energy.

ACTION: Notice of extension of public comment period.

SUMMARY: This notice announces that the period for submitting comments on the notice of proposed rulemaking for direct heating equipment is extended to October 14, 2011.

DATES: DOE will accept comments, data, and information regarding the notice of proposed rulemaking for direct heating equipment received no later than 5 p.m. EDT on October 14, 2011.

ADDRESSES: Any comments submitted must identify the notice of proposed rulemaking for direct heating equipment and provide docket number EERE-2011-BT-STD-0047 and/or RIN number 1904-AC56. Comments may be submitted using any of the following methods:

• Federal eRulemaking Portal: http://www.regulations.gov. Follow the instructions for submitting comments.

• E-mail: Brenda.Edwards@ee.doe.gov. Include docket number EERE-2011-BT-STD-0047 and/or RIN 1904-AC56 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: The docket is available for review at http://www.regulations.gov, including Federal Register notices, public meeting attendee lists and transcripts, comments, and other supporting documents/materials. All documents in the docket are listed in the http://www.regulations.gov index. However, not all documents listed in the index may be publicly available, such as information that is exempt from public disclosure. The http://www.regulations.gov Web page contains simple instructions on how to access all documents, including public comments, in the docket.

For further information on how to submit a public comment, review other public comments and the docket, contact Ms. Brenda Edwards at (202) 586-2945 or by e-mail: Brenda.Edwards@ee.doe.gov.

FOR FURTHER INFORMATION CONTACT: Mr. Mohammed Khan, U.S. Department of Energy, Office of Energy Efficiency and Renewable Energy, Building Technologies Program, EE-2J, 1000 Independence Avenue, SW., Washington, DC 20585-0121. Telephone: (202) 586-7892. E-mail: Mohammed.Khan@ee.doe.gov.

Mr. Eric Stas, U.S. Department of Energy, Office of the General Counsel, GC-71, 1000 Independence Avenue, SW., Washington, DC 20585-0121. Telephone: (202) 586-9507. E-mail: Eric.Stas@hq.doe.gov.

SUPPLEMENTARY INFORMATION: On July 22, 2011, DOE published a notice of proposed rulemaking (NOPR) in the Federal Register (76 FR 43941) which proposed amendments to DOE's definition for “vented hearth heater.” The NOPR provided for the submission of written comments by September 20, 2011. DOE held a public meeting to receive comment on its proposal on September 1, 2011. At the public meeting interested parties requested that DOE provide additional support materials for the NOPR, which DOE plans to post to its Web site. In order to provide interested parties with adequate time to review and respond to the additional materials, DOE has determined that an extension of the public comment period is appropriate and is hereby extending the comment period. DOE will consider any comments received by 5 p.m. EDT on October 14, 2011.

Further Information on Submitting Comments

Under 10 CFR 1004.11, any person submitting information that he or she believes to be confidential and exempt by law from public disclosure should submit two copies: one copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on September 2, 2011.
Kathleen B. Hogan,
Deputy Assistant Secretary for Energy Efficiency, Office of Technology Development, Energy Efficiency and Renewable Energy.

[FR Doc. 2011-23238 Filed 9-9-11; 8:45 am]

BILLING CODE 6450-01-P